DEPARTMENT OF ENERGY

Federal Energy Regulatory Commission

[Docket No. EL02-112-000]

FirstEnergy Solutions Corp., FirstEnergy Generation Corp., Complainant, v. PJM Interconnection, LLC, Respondent; Notice of Complaint

August 2, 2002.

Take notice that on August 1, 2002, FirstEnergy Solutions Corp. and FirstEnergy Generation Corp. (FirstEnergy) filed a Complaint against PJM Interconnection, LLC (“PJM”). In the Complaint, FirstEnergy requests that the Commission issue an order directing PJM to eliminate its eFuel reporting requirement. In the alternative, FirstEnergy requests that the Commission issue an order directing PJM to address the eFuel reporting requirement under the MMU information gathering rules in effect at the time PJM initiated reporting requirement in February 2002.

Copies of this filing were served upon PJM, state regulatory agencies in Ohio, Pennsylvania and New Jersey and others FirstEnergy reasonably knows may be expected to be affected by the Complaint.

Any person desiring to be heard or to protest this filing should file with the Federal Energy Regulatory Commission, 888 First Street, NE., Washington, DC 20426, in accordance with Rules 211 and 214 of the Commission's Rules of Practice and Procedure (18 CFR 385.211 and 385.214). Protests will be considered by the Commission in determining the appropriate action to be taken, but will not serve to make protestants parties to the proceeding. Any person wishing to become a party must file a motion to intervene. The answer to the complaint and all comments, interventions or protests must be filed on or before August 21, 2002. This filing is available for review at the Commission or may be viewed on the Commission's web site at http://www.ferc.gov using the “RIMS” link, select “Docket #” and follow the instructions (call 202-208-2222 for assistance). The answer to the complaint, comments, protests and interventions may be filed electronically via the Internet in lieu of paper; see 18 CFR 385.2001(a)(1)(iii) and the instructions on the Commission's web site under the “e-Filing” link. The Commission strongly encourages electronic filings.

Linwood A. Watson, Jr.,
Deputy Secretary.

[FR Doc. 02-20042 Filed 8-7-02; 8:45 am]

BILLING CODE 6717-01-P